DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

The purpose of this notice is to invite written comments on accrediting agencies and State approval agencies whose applications to the Secretary for initial or renewed recognition, requests for an expansion of the scope of recognition, or reports will be reviewed at the Advisory Committee meeting to be held on December 4-6, 2006, at The Madison, 15th and M Street, NW., Washington, DC 20005, telephone: 202-587-2684.

Where Should I Submit My Comments?

Please submit your written comments by mail, fax, or e-mail no later than August 25, 2006 to Ms. Robin Greathouse, Accreditation and State Liaison. You may contact her at the U.S. Department of Education, Room 7105, MS 8509, 1990 K Street, NW., Washington, DC 20006, telephone: (202) 219-7011, fax: (202) 219-7005, or e-mail: Robin.Greathouse@ed.gov. Individuals who use a telecommunications device for the deaf (TDD) may call the Federal Information Relay Service at 1-800-877-8339.

What Is the Authority for the Advisory Committee?

The National Advisory Committee on Institutional Quality and Integrity is established under Section 114 of the Higher Education Act (HEA), as amended, 20 U.S.C. 1011c. One of the purposes of the Advisory Committee is to advise the Secretary of Education on the recognition of accrediting agencies and State approval agencies.

Will This Be My Only Opportunity To Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comments.

What Happens to the Comments That I Submit?

We will review your comments, in response to this notice, as part of our evaluation of the agencies' compliance with Section 496 of the Higher Education Act of 1965, as amended, and the Secretary's Criteria for Recognition of Accrediting Agencies and State Approval Agencies. The Criteria are regulations found in 34 CFR part 602 (for accrediting agencies) and in 34 CFR part 603 (for State approval agencies) and are found at the following site: http://www.ed.gov/admins/finaid/accred/index.html. We will also include your comments with the staff analyses we present to the Advisory Committee at its December 2006 meeting. Therefore, in order for us to give full consideration to your comments, it is important that we receive them by August 25, 2006. In all instances, your comments about agencies seeking initial recognition, continued recognition and/or an expansion of an agency's scope of recognition must relate to the Criteria for Recognition. In addition, your comments for any agency whose interim report is scheduled for review must relate to the issues raised and the Criteria for Recognition cited in the Secretary's letter that requested the interim report.

What Happens to Comments Received After the Deadline?

We will review any comments received after the deadline. If such comments, upon investigation, reveal that the accrediting agency or State approval agency is not acting in accordance with the Criteria for Recognition, we will take action either before or after the meeting, as appropriate.

What Agencies Will the Advisory Committee Review at the Meeting?

The Secretary of Education recognizes accrediting agencies and State approval agencies for public postsecondary vocational education and nurse education if the Secretary determines that they meet the Criteria for Recognition. Recognition means that the Secretary considers the agency to be a reliable authority as to the quality of education offered by institutions or programs it accredits that are encompassed within the scope of recognition she grants to the agency.

Please note that the agencies listed below, which were originally scheduled for review during the National Advisory Committee's June 2006 meeting, were postponed and will be reviewed at the December 2006 meeting.

• Accrediting Bar Association.

• Western Association of Schools and Colleges, Accrediting Commission for Senior Colleges and Universities.

Any third-party written comments regarding these agencies that were received by March 8, 2006, in accordance with the Federal Register notice published on February 6, 2006, will become part of the official record. Those comments will be considered by the National Advisory Committee when it reviews the agencies at the December 2006 meeting.

The following agencies will be reviewed during the December 2006 meeting of the Advisory Committee:

Nationally Recognized Accrediting Agencies

Petition for Renewal of Recognition That Includes a Contraction of the Scope of Recognition

1. American Occupational Therapy Association, Accreditation Council for Occupational Therapy Education. (Current scope of recognition: The accreditation of entry-level professional occupational therapy educational programs offering the Baccalaureate Degree, Post-baccalaureate Certificate, Professional Master's Degree, Combined Baccalaureate/Master's degree, and Doctoral Degree for the accreditation of occupational therapy assistant programs offering the Associate Degree or a Certificate; and for its accreditation of these programs offered via distance education.) (Requested scope of recognition: The accreditation of occupational therapy educational programs offering the professional master's degree, combined baccalaureate/master's degree, and occupational therapy doctorate (OTD) degree; the accreditation of occupational therapy assistant programs offering the associate degree or a certificate; and the accreditation of these programs offered via distance education.)

Petitions for Renewal of Recognition That Include an Expansion of the Scope of Recognition

1. The Association for Biblical Higher Education, Commission on Accreditation. (Current scope of recognition: The accreditation and preaccreditation (“Candidate for Accreditation”) of Bible colleges and institutes in the United States offering undergraduate programs.) (Requested scope of recognition: The accreditation and preaccreditation throughout the United States of institutions and programs of biblical higher education that award undergraduate certificates and degrees, and masters, and doctoral degrees including those programs offered via traditional and alternative [distance education] delivery systems.)

2. Commission on Collegiate Nursing Education. (Current scope of recognition: The accreditation of nursing education programs in the United States, at the baccalaureate and graduate degree levels.) (Requested scope of recognition: The accreditation of nursing programs in the United States, at the baccalaureate and graduate degree levels, including programs offering distance education.)

3. Distance Education and Training Council, Accrediting Commission. (Current scope of recognition: The accreditation of postsecondary institutions in the United States that offer degree programs primarily by the distance education method up through the first professional degree level, and are specifically certified by the agency as accredited for Title IV purposes; and the accreditation of postsecondary institutions in the United States not participating in Title IV that offer programs primarily by the distance education method up through the first professional degree level.) (Requested scope of recognition: The accreditation of postsecondary institutions in the United States that offer degree programs primarily by the distance education method from the associate up to and including the professional doctoral degree, and are specifically certified by the agency as accredited for Title IV purposes; and the accreditation of postsecondary institutions in the United States not participating in Title IV that offer programs primarily by the distance education method from the associates up through the professional doctoral degrees.)

4. Middle States Commission on Secondary Schools. (Current scope of recognition: The accreditation of institutions with postsecondary, non-degree granting career and technology programs in Delaware, Maryland, New Jersey, New York, Pennsylvania, the Commonwealth of Puerto Rico, the District of Columbia, and the U.S. Virgin Islands.) (Requested scope of recognition: The accreditation of institutions with postsecondary, non-degree granting career and technology programs in Delaware, Maryland, New Jersey, New York, Pennsylvania, the Commonwealth of Puerto Rico, the District of Columbia, and the Virgin Islands including programs offered all or in part via distance education modalities at those institutions.)

5. National League for Nursing Accrediting Commission. (Current scope of recognition: The accreditation in the United States of programs in practical nursing, and diploma, associate, baccalaureate and higher degree nurse education programs.) (Requested scope of recognition: The accreditation in the United States of programs in practical nursing, diploma, associate, baccalaureate and graduate degree nurse education programs including those that offer such programs via distance education.)

Petition for an Expansion of the Scope

1. Western Association of Schools and Colleges, Accrediting Commission for Schools. (Current scope of recognition: The accreditation and preaccreditation (“Candidate for Accreditation”) of adult and postsecondary schools that offer programs below the degree level in California, Hawaii, the United States territories of Guam and American Samoa, the Republic of Palau, the Federated States of Micronesia, the Commonwealth of the Northern Mariana Islands, and the Republic of the Marshall Islands.) (Requested scope of recognition: The accreditation and preaccreditation (“Candidate for Accreditation”) of adult and postsecondary schools that offer programs below the degree level in California, Hawaii, the United States territories of Guam and American Samoa, the Republic of Palau, the Federated States of Micronesia, the Commonwealth of the Northern Mariana Islands, and the Republic of the Marshall Islands; and the accreditation and preaccreditation of not-for-profit postsecondary non-degree-granting institutions in Alaska, Idaho, Montana, Nevada, Oregon, Utah, and Washington.)

Petitions for Renewal of Recognition

1. American Academy for Liberal Education. (Current and requested scope of recognition: The accreditation and preaccreditation (“Candidacy for Accreditation”) of institutions of higher education and programs within institutions of higher education throughout the United States that offer liberal arts degree(s) at the baccalaureate level or a documented equivalency.)

2. American Bar Association, Council of the Section of Legal Education and Admissions to the Bar. (Current and requested scope of recognition: The accreditation throughout the United States of programs in legal education that lead to the first professional degree in law, as well as freestanding law schools offering such programs.)

3. American Physical Therapy Association, Commission on Accreditation in Physical Therapy Education (Current and requested scope of recognition: The accreditation and preaccreditation (“Candidate for Accreditation”) in the United States of physical therapist education programs leading to the first professional degree at the master's or doctoral level and physical therapist assistant education programs at the associate degree level and for its accreditation of such programs offered via distance education.)

4. American Veterinary Medical Association, Council on Education. (Current and requested scope of recognition: The accreditation and preaccreditation (“Reasonable Assurance”) in the United States of programs leading to professional degrees (D.V.M. or D.M.V.) in veterinary medicine.)

5. Association for Clinical Pastoral Education, Inc., Accreditation Commission. (Current and requested scope of recognition: The accreditation of both clinical pastoral education (CPE) centers and CPE and Supervisory CPE programs located within the United States and territories.)

6. Western Association of Schools and Colleges, Accrediting Commission for Senior Colleges and Universities. (Current and requested scope of recognition: The accreditation and preaccreditation (“Candidate for Accreditation”) of senior colleges and universities in California, Hawaii, the United States territories of Guam and American Samoa, the Republic of Palau, the Federated States of Micronesia, the Commonwealth of the Northern Mariana Islands and the Republic of the Marshall Islands, including distance education programs offered at those institutions.)

Interim Reports. (An interim report is a follow-up report on an accrediting agency's compliance with specific criteria for recognition.)

1. Council on Naturopathic Medical Education.

2. North Central Association Commission on Accreditation and School Improvement, Board of Trustees.

State Agencies Recognized for the Approval of Public Postsecondary Vocational Education

Renewal Petitions

1. Oklahoma Board of Career and Technology Education (Current and requested scope of recognition: The approval of public postsecondary vocational education offered at institutions in the State of Oklahoma that are not under the jurisdiction of the Oklahoma State Regents for Higher Education.)

2. Pennsylvania State Board of Vocational Education, Bureau of Career and Technical Education.

Interim Reports

1. New York State Board of Regents (Public Postsecondary Vocational Education).

2. Puerto Rico State Agency for the Approval of Public Postsecondary Vocational, Technical Institutions and Programs.

State Agency Recognized for the Approval of Nurse Education

Petition for Renewal of Recognition

1. Maryland Board of Nursing.

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. National Defense University, Washington, DC (request to award a Master's in Arts in Strategic Security Studies degree).

Where Can I Inspect Petitions and Third-Party Comments Before and After the Meeting?

All petitions and those third-party comments received in advance of the meeting will be available for public inspection at the U.S. Department of Education, Room 7105, MS 8509, 1990 K Street, NW., Washington, DC 20006, telephone (202) 219-7011 between the hours of 8 a.m. and 3 p.m., Monday through Friday, until November 6, 2006. They will be available again after the December 4-6, 2006 Advisory Committee meeting. An appointment must be made in advance of such inspection.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

Dated: July 20, 2006.
James F. Manning,
Acting Assistant Secretary for Postsecondary Education.

[FR Doc. E6-11914 Filed 7-25-06; 8:45 am]

BILLING CODE 4000-01-P